PRESIDIO TRUST

Notice To Extend Comment Period and Notice of Public Meeting

AGENCY: The Presidio Trust.

ACTION: Notice to extend comment period and notice of public meeting.

SUMMARY: By Federal Register notice of August 1, 2008 (73 FR 45092), the Presidio Trust (Trust) extended the Environmental Protection Agency calculated 45-day time period for public review of the Draft Supplemental Environmental Impact Statement (SEIS) to September 19, 2008. The previous deadline for comments was July 31, 2008. By this notice, the Trust is (i) further extending the public comment period to October 20, 2008, and (ii) in accordance with § 103(c)(6) of the Presidio Trust Act, 16 U.S.C. 460bb note, Title I of Public Law 104-333, 110 Stat. 4097, as amended, and in accordance with the Trust's bylaws, informing the public of a public meeting of the Trust Board of Directors.

SUPPLEMENTARY INFORMATION: In accordance with the National Environmental Policy Act, the Trust is requesting public comment on the Presidio Trust Management Plan (PTMP) Main Post Update Draft SEIS. The Draft SEIS evaluates alternatives to the planning concept for the 120-acre Main Post district at the Presidio of San Francisco identified in the 2002 PTMP, the Trust's comprehensive land use plan and policy framework. The Draft SEIS considers planning proposals that were not anticipated in the PTMP, including a contemporary art museum and a lodge, and identifies Alternative 2 as the proposed action, which is further described in the Draft Main Post Update of the PTMP. By extending the comment period, the Trust anticipates more in-depth comments on the Draft SEIS that will promote a better-informed decision. The Draft PTMP Main Post Update and Draft SEIS can be reviewed at local libraries, at the Trust headquarters at 34 Graham Street, San Francisco, CA 94129, and on the Trust Web site at http://www.Presidio.gov in the Major Projects section. Although the time for comments has been extended, the Trust requests that interested parties provide comments as soon as possible.

The purposes of the public meeting are to provide an Executive Director's report, to receive public comment at a second public meeting of the Trust's Board of Directors on the Draft PTMP Main Post Update and Draft SEIS, and to receive public comment on other matters in accordance with the Trust's Public Outreach Policy. The meeting will be held on Tuesday, October 14, 2008, at 6:30 p.m., at the Palace of Fine Arts Theatre, 3301 Lyon Street, San Francisco, CA 94123.

Individuals requiring special accommodation at the public meeting, such as needing a sign language interpreter, should contact Mollie Matull at 415.561.5300 prior to October 7, 2008.

DATES: The public meeting will begin at 6:30 p.m. on Tuesday, October 14, 2008. Written comments must be received by October 20, 2008.

ADDRESSES: The meeting will be held at the Palace of Fine Arts Theatre, 3301 Lyon Street, San Francisco, CA 94123. Written comments should be submitted to Main Post, Attn: Compliance Coordinator, The Presidio Trust, 34 Graham Street, P.O. Box 29052, San Francisco, CA 94129-0052. Electronic comments can be sent to Mainpost@Presidiotrust.gov. Please be aware that all comments and information submitted will be made available to the public, including, without limitation, any postal address, e-mail address, phone number or other information contained in each submission.

FOR FURTHER INFORMATION CONTACT: John Pelka, 415.561.4183.

Dated: September 9, 2008.
Karen A. Cook,
General Counsel.

[FR Doc. E8-21399 Filed 9-12-08; 8:45 am]

BILLING CODE 4310-4R-P